DEPARTMENT OF THE INTERIOR

National Park Service

[N6764; NPS-WASO-NAGPRA-NPS0041549; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Kirsten Twork, Sonoma State University, 1801 East Cotati Avenue, Rohnert Park, CA 94928, email tworkk@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 205 lots of objects of cultural patrimony have been requested for repatriation.

A total of three lots of objects of cultural patrimony were removed from CA-PLA-75 located near Roseville in Placer county California. There was no information found explaining why the cultural items were removed from the site. The cultural items are obsidian and have been housed at Sonoma State University since their submission.

A total of one lot of objects of cultural patrimony was removed from CA-PLA-139 located near Auburn in Placer county California. There was no information found explaining why the cultural items were removed from the site. The cultural item is obsidian and has been housed at Sonoma State University since their submission.

A total of 11 lots of objects of cultural patrimony were removed from CA-PLA-395 located near Five Lakes in Placer county California. There was no information found explaining why the cultural items were removed from the site. The cultural items are obsidian and have been housed at Sonoma State University since their submission.

A total of 190 lots of objects of cultural patrimony were removed from CA-PLA-965 near Auburn in Placer county California. There was no information found explaining why the cultural items were removed from the site. The cultural items are obsidian and have been housed at Sonoma State University since their submission.

Determinations

The Sonoma State University has determined that:

• The 205 lots of objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the United Auburn Indian Community of the Auburn Rancheria of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: December 8, 2025.
Melanie O'Brien,
Manager, National NAGPRA Program.

[FR Doc. 2025-23352 Filed 12-18-25; 8:45 am]

BILLING CODE 4312-52-P